DEPARTMENT OF HEALTH AND HUMAN SERVICES

Administration for Children and Families

Submission for OMB Review; Comment Request

Title: HHS/ACF/OPRE Head Start Classroom-based Approaches and Resources for Emotion and Social skill promotion (CARES) project: Impact and Implementation Studies

OMB No.: New collection

Description: The Head Start Classroom-based Approaches and Resources for Emotion and Social skill promotion (CARES) project will evaluate social emotional program enhancements within Head Start settings serving three- and four-year old children. This project focuses on identifying the central features of effective programs to provide the information federal policy makers and Head Start providers will need if they are to increase Head Start's capacity to improve the social and emotional skills and school readiness of preschool age children. The project is sponsored by the Office of Planning, Research, and Evaluation (OPRE) of the Administration for Children and Families (ACF). The Head Start CARES project will use a group-based randomized design to test the effects of three different evidence-based programs designed to improve the social and emotional development of children in Head Start classrooms.

The purpose of this data collection is to assess the impact and implementation of program models through surveys with teachers and parents, direct child assessments, as well as interviews with teachers, coaches, trainers, center directors, center staff, and grantee/delegate agency directors.

Respondents: The respondents to these various surveys and interviews will include Head Start teachers, center staff and directors, grantee/delegate agency directors, trainers, local coaches, low-income parents and their Head Start children. Children in the study will be 3- and 4-year olds in the selected Head Start classrooms.

Annual Burden Estimates
Instrument | Annual number of respondents | Number of responses per respondent | Average burden hours per response | Estimated annual burden hours
Baseline Lead Teacher Self-Report Survey | 120 | 1 | 0.33 | 40
Follow-up Lead Teacher Self-Report Survey | 120 | 1 | 0.33 | 40
Teacher Report on Individual Children | 1,216 | 3 | 0.33 | 1,204
Baseline Parent Survey | 1,216 | 1 | 0.33 | 401
Follow-up Parent Survey | 1,216 | 1 | 0.33 | 401
Direct Child Assessment | 960 | 3 | 0.75 | 2,160
Site Visit: Coach Interview Guide | 20 | 1 | 1 | 20
Site Visit: Teacher Interview Guide | 120 | 1 | 1 | 120
Site Visit: Center Director Interview Guide | 20 | 1 | 1 | 20
Site Visit: Center Staff Interview Guide | 60 | 1 | 1 | 60
Grantee/Delegate Agency Interview Guide | 7 | 1 | 1 | 7
Trainer Interview Guide | 20 | 1 | 1 | 20

Estimated Total Annual Burden Hours: 4,493

Additional Information:Copies of the proposed collection may be obtained by writing to the Administration for Children and Families, Office of Planning, Research and Evaluation, 370 L'Enfant Promenade, SW., Washington, DC 20447, Attn: OPRE Reports Clearance Officer. All requests should be identified by the title of the information collection. E-mail address: OPREinfocollection@acf.hhs.gov.

OMB Comment:OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974,Attn: Desk Officer for the Administration for Children and Families.

Dated: February 6, 2009.
Brendan C. Kelly,
OPRE Reports Clearance Officer.

[FR Doc. E9-3052 Filed 2-13-09; 8:45 am]

BILLING CODE 4184-01-M